DEPARTMENT OF JUSTICE

Notice of Lodging of Proposed Modifications of the Consent Decree Entered in United States et al. v. Illinois Power Company and Dynegy Midwest Generation

Notice is hereby given that on April 27, 2009, the United States lodged Proposed Consent Decree Modifications in the United States District Court for the Southern District of Illinois in the matter captioned United States et al. v. Illinois Power Company and Dynegy Midwest Generation, Inc. (Civil Action No. 99-833-MJR). These proposed modifications were jointly agreed to by the United States, the State of Illinois, the four citizen groups co-plaintiffs—the American Bottom Conservancy, Health and Environmental Justice-St. Louis, Inc., Illinois Stewardship Alliance, and the Prairie Rivers Network—and Dynegy Midwest Generation (“DMG”).

The proposed modifications affect Section I of Appendix A, Mitigation project Requirements, under which DMG is required to complete installation of Advanced Truck Stop Electrification (“ATSE”), preferably at State of Illinois-owned rest areas along Illinois interstate highways in the St. Louis Metro-East area. In accordance with this requirement, in 2006, DMG arranged for the development of 81 electrification units at one facility in East St. Louis, spending approximately $959,293 of the $1.5 million required project dollars. Thereafter, DMG encountered difficulties implementing a second ATSE project site and, in December, 2007, the Court extended the deadline for completion of the ATSE project for one year (i.e., until December 31, 2008) in recognition of the difficulties in securing a second truck stop location. By July, 2008, the Parties concluded that, despite diligent efforts, DMG was unable to complete the ATSE project, and thereafter agreed to seek modification of the Consent Decree to provide for an alternative environmental mitigation project to spend the balance of the project dollars. To this end, the Parties have agreed to two related modifications to the Consent Decree. First, the Parties have agreed that DMG may have until May 31, 2011 to complete an approved mitigation project with the remaining $540,707. Second, the Parties have agreed to require DMG to spend these funds to retrofit diesel-powered, in-service, school bus and municipal vehicles with technology to reduce emissions of PM, VOC and/or NOX. This work will be facilitated by Illinois EPA, through that agency's “Illinois Clean School Bus Program” or the “Illinois Clean Diesel Grant Program,” and will be aimed at eligible fleets in southwestern Illinois. DMG's Baldwin Power Station is located in Randolph County, and the intent of the Parties is to retrofit fleets to reduce emissions as near to the plant as possible.

The Department of Justice will receive for a period of thirty (30) days from the date of this publication comments relating to the above-described Proposed Consent Decree Modification. Comments should be addressed to the Assistant Attorney General, Environmental and Natural Resources Division, and either e-mailed to pubcomment-ees.enrd@usdoj.gov or mailed to P.O. Box 7611, U.S. Department of Justice, Washington, DC 20044-7611, and should refer to United States v. Illinois Power Company and Dynegy Midwest Generation, Inc., D.J. Ref. No. 90-5-2-1-06837. During the public comment period, the proposed modification to the Consent Decree may also be examined on the following Department of Justice Web site: http://www.usdoj.gov/enrd/Consent_Decrees.html.

A copy of the proposed modification may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $4.00 (25 cents per page reproduction cost) payable to the U.S. Treasury.

Maureen Katz,
Assistant Chief, Environmental Enforcement Section, Environment and Natural Resources Division.

[FR Doc. E9-11458 Filed 5-15-09; 8:45 am]

BILLING CODE 4410-15-P